ENVIRONMENTAL PROTECTION AGENCY

40 CFR Part 52

[EPA-R05-OAR-2018-0841; FRL-10489-02-R5]

Air Plan Approval; Illinois; Alton Township 2010 SO2 Attainment Plan

AGENCY: Environmental Protection Agency (EPA).

ACTION: Final rule.

SUMMARY: The Environmental Protection Agency (EPA) is approving the State Implementation Plan (SIP) revision which Illinois submitted to EPA on December 31, 2018, for attaining the 1-hour sulfur dioxide (SO2) primary national ambient air quality standard (NAAQS) for the Alton Township nonattainment area in Madison County. This plan (herein called a “nonattainment plan”) includes Illinois' attainment demonstration and other elements required under the Clean Air Act (CAA), including the requirement for meeting reasonable further progress (RFP) toward attainment of the NAAQS, reasonably available control measures and reasonably available control technology (RACM/RACT), base-year and projection-year emission inventories, enforceable emission limitations and control measures, nonattainment new source review (NNSR), and contingency measures. EPA is approving Illinois' submission as a SIP revision for attaining the 2010 1-hour primary SO2 NAAQS in the Alton township nonattainment area, finding that Illinois has adequately demonstrated that the plan provisions provide for attainment of the NAAQS in the nonattainment area and that the plan meets the other applicable requirements under the CAA. EPA proposed to approve this action on December 30, 2022, and received no comments.

DATES: This final rule is effective on March 23, 2023.

ADDRESSES: EPA has established a docket for this action under Docket ID No. EPA-R05-OAR-2018-0841. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Andrew Lee, Physical Scientist, at (312) 353-7645 before visiting the Region 5 office.

FOR FURTHER INFORMATION CONTACT: Andrew Lee, Physical Scientist, Attainment Planning and Maintenance Section, Air Programs Branch (AR-18J), Environmental Protection Agency, Region 5, 77 West Jackson Boulevard, Chicago, Illinois 60604, (312) 353-7645, lee.andrew.c@epa.gov.

SUPPLEMENTARY INFORMATION: Throughout this document whenever “we,” “us,” or “our” is used, we mean EPA.

I. Background Information

Following the promulgation in 2010 of a 1-hour primary SO2 NAAQS, on June 30, 2016, EPA designated the Alton Township area within the State of Illinois as nonattainment for this NAAQS, in conjunction with designating multiple areas in other states as nonattainment as part of the Agency's Round 2 designations. On December 31, 2018, Illinois submitted a nonattainment plan for the Alton Township area to attain the 1-hour SO2 primary NAAQS. EPA published a notice of proposed rulemaking (NPRM) approving Illinois' attainment plan on December 30, 2022 (87 FR 80509).

The dispersion modeling results submitted by Illinois, and supplemented by EPA, show design values that are less than the standard of 75 parts per billion (ppb), specifically 74.9 ppb for the Alton Township area. EPA proposed that these areas demonstrate attainment of the 2010 SO2 standard and meet the applicable requirements of CAA sections 110, 172, 191, and 192, including emission inventories, RACT/RACM, RFP, and contingency measures, and that Illinois has previously addressed requirements regarding NNSR. An explanation of the CAA requirements, a detailed analysis of the nonattainment plan for the Alton Township area, and EPA's reasons for proposing approval were provided in the NPRM and will not be restated here.

II. Public Comments

The public comment period for this proposed rule ended on January 30, 2023. EPA received no comments on its NPRM.

III. Final Action

EPA is approving Illinois' attainment plan as submitted to EPA on December 31, 2018, as a revision to Illinois' SIP, for attaining the 2010 SO2 NAAQS for the Alton Township area. As part of this action, EPA is incorporating Illinois' Permit to Construct Number #18020009, applicable to Alton Steel, by reference into the SIP. The permit requires that Alton Steel operates a new ladle metallurgy facility (LMF) stack to replace the four downward facing vents on the individual compartments on the LMF stack. The attainment plan includes Illinois' attainment demonstrations for the Alton nonattainment area using dispersion modeling, and supplemented by EPA's modeling, to demonstrate that the emission limits required by the Illinois SIP, and submitted for EPA approval, provide for modeled concentrations meeting the SO2 NAAQS.

The attainment plan also satisfies requirements for emission inventories, RACT/RACM, RFP, and contingency measures. Illinois has previously addressed NNSR requirements for this area. For these reasons, EPA has determined that Illinois' SO2 attainment plan meets the applicable requirements of CAA sections 110, 172, 191, and 192.

IV. Incorporation by Reference

In this rule, EPA is finalizing regulatory text that includes incorporation by reference. In accordance with requirements of 1 CFR 51.5, EPA is finalizing the incorporation by reference of the Illinois construction permit for Alton Steel, Inc., issued March 5, 2018, as described in section III. Of this preamble and set forth in the amendments to 40 CFR part 52 set forth below. EPA has made, and will continue to make, these documents generally available through www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by April 24, 2023. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2) of the CAA.)

List of Subjects in 40 CFR Part 52

Environmental protection, Air pollution control, Incorporation by reference, Intergovernmental relations, Reporting and recordkeeping requirements, Sulfur oxides.

Dated: February 14, 2023.
Debra Shore,
Regional Administrator, Region 5.

For the reasons stated in the preamble, 40 CFR part 52 is amended as follows:

PART 52—APPROVAL AND PROMULGATION OF IMPLEMENTATION PLANS

1. The authority citation for part 52 continues to read as follows:

Authority: 42 U.S.C. 7401 et seq.

2. In § 52.720:

a. Amend the table in paragraph (d) by adding an entry for “Alton Steel” before the entry for “Alumax Incorporated, Morris, IL”.

b. Amend the table in paragraph (e) under the heading “Attainment and Maintenance Plans” by adding an entry for “Sulfur dioxide (2010) nonattainment plan” after the entry “Sulfur dioxide (2010) nonattainment plans”.

The additions read as follows:

§ 52.720 Identification of plan.

* * * * *

(d) * * *

EPA-Approved Illinois Source-Specific Requirements
Name of source | Order/permit No. | State effective date | EPA approval date | Comments
Alton Steel | 18020009 | 3/5/2018 | 2/21/2023, [INSERT Federal Register CITATION]
* * * * * * *

* * * * *

(e) * * *

EPA-Approved Illinois Nonregulatory and Quasi-Regulatory Provisions
Name of SIP provision | Applicable geographic or nonattainment area | State submittal date | EPA approval date | Comments
* * * * * * *
Attainment and Maintenance Plans
* * * * * * *
Sulfur dioxide (2010) nonattainment plan | Alton Township | 12/31/2018 | 2/21/2023, [INSERT Federal Register CITATION] |
* * * * * * *

* * * * *

[FR Doc. 2023-03456 Filed 2-17-23; 8:45 am]

BILLING CODE 6560-50-P